DEPARTMENT OF COMMERCE

Bureau of the Census

Census Advisory Committees

AGENCY: Bureau of the Census, Department of Commerce.

ACTION: Notice of public meeting.

SUMMARY: The Bureau of the Census (Census Bureau) is giving notice of a meeting of the National Advisory Committee on Racial, Ethnic, and Other Populations. The Committee will address issues related to the American Community Survey, Mixed-Mode Data Collection, and early 2020 Census planning. The Committee will meet in a plenary session on October 25-26, 2012. Last-minute changes to the schedule are possible, which could prevent giving advance public notice of schedule adjustments.

DATES: October 25-26, 2012. On October 25, the meeting will begin at approximately 9 a.m. and end at approximately 5:15 p.m. On October 26, the meeting will begin at approximately 9 a.m. and end at approximately 2:15 p.m.

ADDRESSES: The meeting will be held at the U.S. Census Bureau, 4600 Silver Hill Road, Suitland, Maryland 20746.

FOR FURTHER INFORMATION CONTACT: Jeri Green, Jeri.Green@census.gov, Committee Liaison Officer, Department of Commerce, U.S. Census Bureau, Room 8H182, 4600 Silver Hill Road, Washington, DC 20233, telephone 301-763-6590. For TTY callers, please use the Federal Relay Service 1-800-877-8339.

SUPPLEMENTARY INFORMATION: The National Advisory Committee on Racial, Ethnic, and Other Populations was established this year and comprises up to thirty-two members. The Committee provides a channel of communication between outside experts and the Census Bureau. The Committee provides advice about economic, housing, demographic, socioeconomic, technological, operational variables, etc., affecting the cost, accuracy and implementation of Census Bureau programs and surveys. The Committee also provides an outside-user perspective and advice on research and early design plans for the 2020 Census, the American Community Survey, and other related programs particularly as they pertain to increasing census participation. The Committee assists the Census Bureau in understanding ways that census data can best be disseminated to diverse racial and ethnic populations and other users. The Committee is established in accordance with the Federal Advisory Committee Act (Title 5, United States Code, Appendix 2.

All meetings are open to the public. A brief period will be set aside at the meeting for public comment on October 26. However, individuals with extensive questions or statements must submit them in writing to Ms. Jeri Green at least three days before the meeting. If you plan to attend the meeting, please register by Monday, October 22, 2012. You may access the online registration using the following link: http://www.regonline.com/nac_oct2012_meeting. Seating is available to the public on a first-come, first-served basis.

These meetings are physically accessible to people with disabilities. Requests for sign language interpretation or other auxiliary aids should be directed to the Committee Liaison Officer as soon as possible, preferably two weeks prior to the meeting.

Due to increased security, and for access to the meeting, please call 301-763-9906 upon arrival at the Census Bureau on the day of the meeting. A photo ID must be presented in order to receive your visitor's badge. Visitors are not allowed beyond the first floor.

Dated: October 1, 2012.
Thomas L. Mesenbourg, Jr.,
Acting Director, Bureau of the Census.

[FR Doc. 2012-24802 Filed 10-5-12; 8:45 am]

BILLING CODE 3510-07-P